DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 84 FR 65981, dated December 2, 2019) is amended to reflect the reorganization of the National Institute for Occupational Safety and Health (NIOSH), Centers for Disease Control and Prevention. The reorganization is needed to become more responsive to the changing mining industry and stakeholder priorities, as well as align and integrate regional activities of the NIOSH mining program's core business and research functions.

I. Under Part C, Section C-B, Organization and Functions, the following organizational units are deleted in their entirety:

• Health Communication, Surveillance and Research Support Branch (CCRB)

• Ground Control Branch (CCRC)

• Dust, Ventilation and Toxic Substances Branch (CCRD)

• Human Factors Branch (CCRE)

• Electrical and Mechanical Systems Safety Branch (CCRF)

• Fires and Explosions Branch (CCRG)

• Workplace Health Branch (CCRH)

II. Under Part C, Section C-B, Organization and Functions, make the following changes:

• Update functional statement for the Pittsburgh Mining Research Division (CCR)

• Create the Health Hazards Prevention Branch (CCRJ)

• Create the Mining Systems Safety Branch (CCRK)

• Create the Human Systems Integration Branch (CCRL)

• Update the functional statement for the Spokane Research Division (CCS)

• Create the Miner Health Branch (CCSB)

• Create the Miner Safety Branch (CCSC)

III. Under Part C, Section C-B, Organization and Functions, insert the following:

• Pittsburgh Mining Research Division (CCR). Provides leadership and guidance for the prevention of work-related illness, injury, and fatalities of mine workers through research and prevention activities of the Pittsburgh Mining Research Division through three subordinate Branches. Specifically: (1) Conducts field studies to identify emerging hazards, to understand the underlying causes of mine safety and health problems, and to evaluate the effectiveness of interventions; (2) develops engineering and behavioral-based interventions, including training programs, to improve safety and health in the mines; (3) performs research, development, and testing of new technologies, equipment, and practices to enhance mine safety and health; (4) develops best practices guidance for interventions; (5) transfers mining research and prevention products into practice; and (6) collaborates with the Spokane Mining Research Division and other NIOSH divisions engaged in research and prevention activities relevant to mine worker health and safety.

• Health Hazards Prevention Branch (CCRJ). The Health Hazards Prevention Branch function is to reduce illnesses and injuries to mine workers through assessment and control of respiratory and physical hazards. The branch: (1) Assesses mine worker exposure to respiratory hazards, through a comprehensive characterization of the exposures and the evaluation and development of monitoring methods and technologies; (2) conducts research on and evaluates the performance and technical feasibility of engineering control strategies, novel approaches, and the application of new or emerging technologies for underground and surface mine dust and respiratory hazard control systems; (3) conducts research related to occupational hearing loss in the mining sector, including causative effects, noise controls, hearing protection devices and impulse noise; (4) demonstrates and evaluates the technical and economic feasibility of noise reduction controls; (5) conducts research related to ergonomic hazards, including developing engineering controls in the laboratory and evaluating their effectiveness in the workplace to prevent workplace musculoskeletal disorders, slips-trips-falls accidents, and materials handling injuries; and (6) conducts research related to the assessment and control of diesel particulate matter (DPM) in both surface and underground mines.

• Mining Systems Safety Branch (CCRK). The Mining Systems Safety Branch function is to reduce accidents and injuries arising from changing geological conditions and mine system technologies and to prevent mine explosions, mine fires, and gas and water inundations, particularly in underground coal mines. The branch: (1) Conducts experiments through laboratory and field investigations to prevent catastrophic events such as cataclysmic structural or ground failures, mine explosions, mine fires, and gas and water inundations to better understand cause and effect relationships that initiate such events; (2) utilizes monitoring and advanced numerical modeling techniques to better understand and visualize ground behavior and support response, leading to improved design criteria for mine layouts and support design to mitigate ground control failures; (3) develops, tests, and demonstrates sensors, predictive models, and engineering control technologies to reduce miners' risk for injury or death; (4) conducts laboratory and field research on communication systems, tracking systems, lighting systems, sensor technologies, refuge alternatives, and monitoring systems to ensure their viability and safety during routine mining operations as well as post-disaster conditions; (5) assesses and develops new or improved strategies and technologies to reduce the risks associated with fires and explosions in mining operations to mitigate the impact of mine disasters; (6) assesses methodologies and designs to enhance and improve underground mine ventilation system design and application to prevent disasters and ensure safe and healthy conditions for underground miners; and (7) identifies and evaluates emerging health and safety issues as mining operations move into more challenging and dangerous geologic conditions.

• Human Systems Integration Branch (CCRL). The Human Systems Integration Branch function is to reduce fatalities and injuries through interventions and engineering controls solutions developed through a human systems integration framework. The branch: (1) Conducts research with an overarching focus on the human component in the mining workplace system and in the mine emergency response system; (2) conducts human factors research related to worker perceptions, judgment and decision-making, hazard recognition, and human behavior; (3) provides effective training and workplace organization techniques and strategies for mining; (4) conducts intervention and evaluation effectiveness research for integration and use of technologies and interventions including engineering controls, organizational administrative and process changes and individual leadership and worker practices in mining; (5) systematically studies risk at the intersections of technical, human and environmental elements which occur at the levels of the individual, tasks, tools and technology, physical environment and organizational process and design in order to improve risk management systems; and (6) conducts research on effective training methods that develops organizational techniques and strategies to promote a positive safety culture in mining.

• Spokane Mining Research Division (CCS). Provides leadership and guidance in the prevention of work-related illness, injury, and fatalities in the mining industries through research and prevention activities of the Spokane Mining Research Division, with an emphasis on the special needs of surface and underground mines in the western United States. Specifically: (1) Developing numerical models and conducting laboratory and field research and investigations to better understand the causes of catastrophic failures that may lead to multiple injuries and fatalities; (2) developing new design practices and tools, control technologies, and work practices to reduce the risk of global and local ground failures in mines; (3) assessing and mitigating risks associated with emerging technologies such as automated mining equipment and new sensor technologies, and through researching, identifying or developing new technologies that have potential benefits to mining health and safety; (4) developing improved design approaches, monitoring devices, and engineering controls to reduce the concentration of toxic substances in the mine air; (5) developing and promoting health and safety strategies through research that protect mine workers from occupational hazards and advance life-time worker wellbeing through the implementation of a miner health program; (6) conducting laboratory and field studies to leverage and support the Institute's mining research program; and (7) collaborates with the Pittsburgh Mining Research Division and other NIOSH divisions engaged in research and prevention activities relevant to mine worker health and safety.

• Miner Safety Branch (CCSB). The Miner Safety Branch function is to identify and eliminate safety issues arising from changing mine conditions and technologies. State-of-the-art technologies are used to conduct fundamental and applied research aimed at eliminating injuries and fatalities in mining with a particular focus on geomechanical instabilities, localized ground falls, machine safety, and worker interaction with automated systems and other emerging technologies. Researchers specialized in the fields of geology, geophysics, seismology, electronic instrumentation, numerical modeling, geotechnical engineering, safety engineering, data science, and mining engineering utilize state-of-the-art, emerging, and novel technologies to identify and solve mine safety challenges. The branch: (1) Develops, implements, and improves geophysical methods, geotechnical instrumentation, and laboratory techniques through applied research to quantify rock mass properties and characterize mining-induced ground response; (2) utilizes advanced numerical modeling techniques to better understand and visualize ground behavior and support response; (3) identifies new technologies to monitor and improve ground support; (4) conducts research through laboratory and field assessments of the performance of engineered support systems to provide quantifiable design criteria; (5) develops recommendations for the design of equipment and techniques to reduce risks associated with the installation of ground support; (6) utilizes experimental and empirical methods developed through research to quantify the reliability of alternative mining methods and design practices; (7) applies advanced informatics, data analyses, and visualization techniques to automated and semi-automated mining systems to provide increased situational awareness for mine workers; (8) assesses, develops and deploys research-based mine-wide seismic systems for quantifying and evaluating seismic hazards and mitigation strategies for underground and surface mines; and (9) addresses health and safety issues that may develop after the introduction of automated mining systems and other emerging technologies in mining.

• Miner Health Branch (CCSC). The Miner Health Branch function is to assess and track miner health and hazard exposures; and develop and promote health solutions that maximize worker protection, minimize exposures and prevent disease, while improving functional health for the entire mining population. Research is pursued through an interdisciplinary approach involving the fields of epidemiology, industrial hygiene, occupational medicine, organizational psychology, chemistry, as well as mechanical, electrical, and industrial engineering. The branch: (1) Incorporates novel and relevant health surveillance methods for the systematic assessment of health and exposure potential of the miner as it pertains to dynamic mining environments; (2) conducts research on the identification and prioritization of adverse health outcomes and exposures, and their associated risk factors; (3) quantitatively and qualitatively measures risk through research, experimental, and real-world data collection; (4) conducts research on the development and evaluation of workplace practices and technologies aimed at preventing injury and illness that improve long-term functionality for all miners and benefit employers, families, and communities; (5) develops technologies and methods to monitor and eliminate exposures; and (6) engages and collaborates across NIOSH and with industry to effectively communicate tangible health solutions and control strategies.

IV. Delegations of Authority: All delegations and redelegations of authority made to officials and employees of affected organizational components will continue with them or their successors pending further redelegation, provided they are consistent with this reorganization.

(Authority: 44 U.S.C. 3101)

Dated: April 29, 2020.
Alex M. Azar, II,
Secretary.

[FR Doc. 2020-10797 Filed 5-19-20; 8:45 am]

BILLING CODE 4163-18-P